DEPARTMENT OF AGRICULTURE

Animal and Plant Health Inspection Service

9 CFR Part 94

[Docket No. 98-094-1]

Poultry Products From Mexico Transiting the United States

AGENCY: Animal and Plant Health Inspection Service, USDA.

ACTION: Proposed rule.

SUMMARY: We are proposing to allow poultry carcasses, parts, and products (except eggs and egg products) that are not eligible for entry into the United States to move through the United States via land ports from Mexican States that Mexico considers to be free of exotic Newcastle disease (END), under certain conditions, for export to another country. We believe such in-transit movements would present a negligible risk of introducing END into the United States. This action would relieve restrictions on trade while continuing to provide protection against the introduction of END into the United States.

DATES: We invite you to comment on this docket. We will consider all comments that we receive by April 10, 2000.

ADDRESSES: Please send your comment and three copies to: Docket No. 98-094-1, Regulatory Analysis and Development, PPD, APHIS, Suite 3C03, 4700 River Road, Unit 118, Riverdale, MD 20737-1238. Please state that your comment refers to Docket No. 98-094-1.

You may read any comments that we receive on this docket in our reading room. The reading room is located in room 1141 of the USDA South Building, 14th Street and Independence Avenue, SW., Washington DC. Normal reading room hours are 8 a.m. to 4:30 p.m., Monday through Friday, except holidays. To be sure someone is there to help you, please call (202) 690-2817 before coming.

APHIS documents published in the Federal Register, and related information, including the names of organizations and individuals who have commented on APHIS rules, are available on the Internet at http://www.aphis.usda.gov/ppd/rad/webrepor.html.

FOR FURTHER INFORMATION CONTACT: Dr. Michael David, Senior Staff Veterinarian, Animals Program, National Center for Import and Export, VS, APHIS, 4700 River Road Unit 39, Riverdale, MD 20737; (301) 734-8364.

SUPPLEMENTARY INFORMATION:

Background

The regulations in 9 CFR part 94 (referred to below as the regulations) prohibit or restrict the importation of certain animals and animal products into the United States to prevent the introduction of certain animal diseases. The regulations in § 94.6 govern, among other things, the importation of poultry carcasses, parts, products, and eggs (other than hatching eggs) from regions where exotic Newcastle disease (END) or Salmonella enteritidis, phage-type 4, is considered to exist. Because END exists in certain parts of Mexico, Mexico is characterized, under § 94.6(a), as a region where END is considered to exist. Further, under the regulations in § 94.6(b), Mexico is also characterized as a region where S. enteritidis, phage-type 4, is considered to exist.

Under the regulations, poultry carcasses, and parts and products of poultry carcasses may be imported into the United States from Mexico only if they have been cooked or are consigned directly to an approved establishment in the United States. Poultry eggs (other than hatching eggs) from Mexico may be imported into the United States only if: (1) They are accompanied by a health certificate regarding the flock of origin and meet certain other conditions; (2) they are consigned directly to an approved establishment for breaking and pasteurization; (3) they are imported under permit for scientific, educational, or research purposes; or (4) they are imported under permit and have been cooked or processed or will be handled in a manner that prevents the introduction of END and S. enteritidis into the United States.

Further, poultry carcasses, parts, products, and eggs (other than hatching eggs) that do not qualify for entry into the United States under one of these conditions may transit the United States via air and sea ports under the conditions contained in § 94.15(d).

Mexico's Director of Animal Health has requested that we allow poultry carcasses, parts, and products from the Mexican States that Mexico considers free of END to transit the United States via land border ports for export to another country. Currently, Mexico recognizes the States of Baja California, Baja California Sur, Campeche, Chihuahua, Coahuila, Durango, Nuevo Leon, Quintana Roo, Sinaloa, Sonora, Tamaulipas, and Yucatan as free of END.

In response, officials of the Animal and Plant Health Inspection Service (APHIS) have met with representatives from Mexico knowledgeable in disease prevention, epidemiology, and diagnostic methods. The APHIS officials reviewed the information supplied by these representatives (discussed below) and found two factors contributing to the 12 States' apparent successes in remaining free of END: The States' locations and relative isolation from States or countries where END is considered to exist, and controls by Mexico's Division of Animal Health on the movement of poultry and eggs into and through the END-free States. Based on this review, the APHIS officials recommended granting Mexico's request. However, because the term “poultry carcasses, parts, and products” might be construed to include eggs and egg products, we wish to make it clear that because Mexico is characterized as a region where S. enteritidis, phage-type 4, is considered to exist, eggs (other than hatching eggs) and egg products are only allowed to transit the United States via air and sea ports under the conditions currently contained in § 94.15(d). We are not proposing to amend the regulations concerning the transit of eggs or egg products from Mexico in this document.

General Information

The table below shows the year of the last outbreak of END in each State and the year Mexico officially declared each State free of END. As shown in the table, none of the States listed has had an outbreak of END in the last 8 years.

Mexican State | Year of last outbreak of END | Year declared free of END
Baja California | 1982 | 1995
Baja California Sur | * N/A | 1995
Campeche | * N/A | 1997
Chihuahua | * N/A | 1995
Coahuila | 1987 | 1997
Durango | 1991 | 1995
Nuevo Leon | 1983 | 1995
Quintana Roo | 1990 | 1997
Sinaloa | 1989 | 1993
Sonora | 1989 | 1993
Tamaulipas | 1989 | 1997
Yucatan | 1984 | 1996
*Never reported.

Geographically, the 12 States compose two contiguous areas in Mexico. The States of Yucatan, Campeche, and Quintana Roo are located on the Yucatan Peninsula. They are bordered by only one Mexican State, Tabasco, and two countries, Guatemala and Belize, not considered free of END. Yucatan, Campeche, and Quintana Roo maintain active border surveillance, ensuring that no poultry from Tabasco, Guatemala, and Quintana Roo enters without proper documentation, as explained below.

The remaining nine States considered by Mexico to be free of END—Baja California, Baja California Sur, Chihuahua, Coahuila, Durango, Nuevo Leon, Sinaloa, Sonora, and Tamaulipas—are contiguously located in northern Mexico, along the U.S. border and south into north-central Mexico. These States are bordered to the south by States not considered free of END, but, like the Yucatan Peninsula States, they maintain active border surveillance to ensure the safety of their poultry from END.

Of the 12 States that would be eligible to transit poultry carcasses, parts, and products (except eggs and egg products) through the United States via land ports under this proposed rule, Nuevo Leon had the highest volume of poultry production in 1997 (120,000 metric tons, or less than one-tenth of one percent of Mexico's total poultry production for that year). Following Nuevo Leon were Durango and Coahuila, with a combined total of 150,000 metric tons, and Yucatan with 60,000 metric tons. The other 8 States produced less than 60,000 metric tons of poultry each.

Poultry carcasses, parts, and products from Mexico that would be eligible to transit the United States via land border ports under this proposed rule must be processed and packaged in Tipo Inspección Federal (TIF) plants. TIF plants are facilities that are approved by the Government of Mexico and that are subject to strict Federal supervision to ensure that international health standards are maintained. A TIF plant may be a slaughter facility, a processing plant, or a combination of the two. The number of TIF plants in each of the 12 Mexican States is shown in the table below. Data is not available on the exact number of nonslaughter TIF plants that process poultry. The number of TIF plants listed in the “Industrial plant” column below includes pork, beef, and poultry processing plants.

Mexican State | Number of TIF Plants Slaughtering Poultry | Number of “Industrial” TIF plants
Baja California | 0 | 1
Baja California Sur | 0 | 0
Campeche | 0 | 0
Chihuahua | 0 | 5
Coahuila | 0 | 3
Durango | 1 | 0
Nuevo Leon | 1 | 11
Quintana Roo | 0 | 0
Sinaloa | 1 | 2
Sonora | 2 | 1
Tamaulipas | 0 | 0
Yucatan | 1 | 1

As required by the Government of Mexico, the 12 States that are subject to this proposed rule may import live poultry only from other END-free States and countries. The Government of Mexico requires shipments of poultry from END-free countries to be accompanied by a certificate of origin issued by that country's veterinary authorities and by a certificate of import issued by Mexico's veterinary authorities. States recognized by Mexico as free of END also require and issue their own permits and health certificates, further ensuring that the products originate in an END-free region. In addition, live poultry and poultry carcasses, parts, or products imported into these END-free States must be shipped in sealed trucks, and all shipments are inspected at inspection stations located either on State lines or at international ports of entry.

The Government of Mexico also requires that any poultry carcasses, parts, or products that are shipped for processing to an END-free State from a region where END is believed to exist arrive at TIF processing plants in sealed, numbered containers. The seals must show no evidence of tampering, and the shipment must be accompanied by a certificate signed by an authorized official in the region of origin. Once they arrive at the TIF plant in an END-free State, such poultry carcasses, parts, or products are not allowed to come in contact with poultry that is eligible for importation into the United States in accordance with the regulations contained in 9 CFR part 94 to ensure that no comminglement occurs. The poultry carcasses, parts, or products must be immediately cooked to eliminate any risk of disseminating END.

Conditions for Movement Through the United States

Under this proposed rule, the following conditions would apply to the in-transit movement of poultry carcasses, parts, and products (except eggs and egg products) from Baja California, Baja California Sur, Campeche, Chihuahua, Coahuila, Durango, Nuevo Leon, Quintana Roo, Sinaloa, Sonora, Tamaulipas, and Yucatan:

1. Any person wishing to move poultry carcasses, parts, or products from Baja California, Baja California Sur, Campeche, Chihuahua, Coahuila, Durango, Nuevo Leon, Quintana Roo, Sinaloa, Sonora, Tamaulipas, and Yucatan through the United States via land ports for export must first obtain a permit from APHIS. The application for the permit would tell APHIS how much and what type of poultry carcasses, parts, or products would be transported; when they would be transported; the method and route of shipment; and who would be involved in the transportation.

2. The poultry carcasses, parts, or products must be packaged prior to movement from the TIF plant in leakproof containers sealed with serially numbered seals approved by APHIS. The containers must remain sealed at all times while transiting Mexico and the United States.

3. The person moving the poultry carcasses, parts, or products through the United States via land ports must inform the APHIS officer at the U.S. port of arrival, in writing, of the following information before the poultry carcasses, parts, or products arrive in the United States: The time and date that the poultry carcasses, parts, or products are expected at the port of arrival in the United States, the time schedule and route of the shipments through the United States, the permit number, and the serial numbers of the seals on the containers.

4. The poultry carcasses, parts, or products must transit the United States under Customs bond.

5. The poultry carcasses, parts, or products must be exported from the United States within the time period specified on the permit.

Any poultry carcasses, parts, or products exceeding the time limit specified on the permit or transiting in violation of any of the requirements of the permit or the regulations may be destroyed or otherwise disposed of at the discretion of the Administrator, APHIS, pursuant to section 2 of the Act of February 2, 1903, as amended (21 U.S.C. 111).

These safeguards are intended to prevent tampering with the shipments, ensure that the shipments actually leave the United States, and otherwise ensure that the shipments do not present a significant risk of introducing END into the United States.

Under these circumstances—the low risk associated with the poultry carcasses, parts, and products coupled with the safeguards for in-transit shipments—we believe that there would be little, if any, risk of introducing END into the United States as a result of this proposed rule. Therefore, we are proposing to amend § 94.15 to allow poultry carcasses, parts, and products (except eggs and egg products) that do not meet the requirements in § 94.6 for entry into the United States and that originate in one of the Mexican States listed above to transit the United States via land ports for export to another country.

Executive Order 12866 and Regulatory Flexibility Act

This proposed rule has been reviewed under Executive Order 12866. The rule has been determined to be not significant for the purposes of Executive Order 12866 and, therefore, has not been reviewed by the Office of Management and Budget.

Currently, the regulations in 9 CFR part 94 prohibit or restrict the importation of certain animals or animal products into the United States to prevent the introduction of certain animal diseases. Under the regulations, poultry carcasses, parts, and products from Mexico must meet the requirements of § 94.6 to be imported into the United States because exotic Newcastle disease (END) is considered to exist in certain areas in Mexico. However, under § 94.15, certain products that are not eligible for entry into the United States in accordance with the regulations in 9 CFR part 94 may transit the United States for immediate export if certain conditions are met. Currently § 94.15(b) covers only pork and pork products from Chihuahua, Baja California, Sonora, or Yucatan, Mexico, and 94.15(d) allows the transit via air and sea ports of all meat and animal products not otherwise eligible for entry into the United States.

In this document, we are proposing to allow poultry carcasses, parts, and products (except eggs and egg products) that are not eligible for entry into the United States under § 94.6 to move via land ports through the United States from 12 Mexican States, under certain conditions, for export to another country. These 12 States have been officially declared by the Government of Mexico to be free of END.

An APHIS review of the END situation in those States has revealed that, if proper risk management techniques continue to be applied in Mexico, and if accident and exposure are minimized by proper handling during transport, there would be a negligible risk that END could be disseminated into the United States as a result of this proposal.

The proposed regulations would have no direct effect on U.S. producers and consumers of poultry because Mexican poultry would only transit the United States en route to other countries and would not enter U.S. marketing channels. Neither the quantity or price of poultry traded in U.S. domestic markets nor U.S. consumer or producer surplus would be affected by the proposed rule.

A benefit of allowing Mexican poultry to transit the United States for export is that U.S. companies would ship the poultry from U.S. receiving centers in the border States of California, Arizona, and Texas to export points. Current Department of Transportation regulations restrict trucks from Mexico from proceeding into the United States due to safety restrictions. However, any economic activity that would result from this proposal is dependent on the volume of poultry shipped from Mexico for export to other countries. Given Mexico's low volume of poultry and poultry product exports, few shipments of poultry are likely to transit the United States to other countries under this proposal, and benefits to U.S. carriers and shippers are likely to be very small.

Potential losses from disease outbreaks are not quantified because APHIS judges the likelihood of outbreaks (which could result from a combination of factors such as the presence of the disease in Mexico, failure of the preclearance program, accidental openings while in transit, or exposure after an accidental opening of a shipment) to be negligible.

Mexican Poultry Production and Exports

Since 1990, poultry meat production in Mexico has grown 5 percent annually to reach 1.7 million metric tons in 1998. However, nearly all of the poultry meat produced in Mexico is consumed domestically. For example, in 1997, Mexico produced 1.5 million metric tons of poultry, but exported only 5,000 metric tons of that total. Therefore, we anticipate that the volume of poultry that would transit the United States under this proposal would be very small.

Effects on Small Trucking Companies

This proposed rule, if implemented, could directly affect U.S. trucking companies operating in the border States of California, Arizona, and Texas. Small Business Administration (SBA) data show that there are approximately 18,000 trucking companies operating in those States, and over 96 percent of those companies are small entities. However, it is unclear how many of those companies would be affected by this proposal.

At present, freight arriving in the Customs territory of the United States by truck from Mexico has to be delivered to customers within the commercial zone of the U.S. cities along the border or else transferred to a U.S. trucking or other shipping company within that zone. U.S. trucking companies would benefit from transporting Mexican poultry from U.S. land border ports to U.S. maritime ports. However, given the anticipated low volume of Mexican exports, this proposed rule would likely not have a significant economic effect on a substantial number of small trucking companies.

Effects on Small Railroad Companies

This proposed rule, if implemented, could also affect four U.S. railroad companies that currently transport goods across the U.S.-Mexico border. Two of these railroad companies meet SBA criteria for small entities (fewer than 1,500 employees). Any economic effects on railroad companies, whether small or large, would likely be positive, but such effects are anticipated to be insignificant, given the expected small volume of Mexican exports.

Effects on U.S. Poultry Exporters

This proposal could also affect U.S. poultry exporters. Historical data on shipments of Mexican poultry suggest that the poultry would be shipped to either Japan or the Middle East; but, once again, given the anticipated low volume of Mexican exports, U.S. companies that export poultry and poultry products to these two regions are unlikely to be significantly affected.

Trade Relations

This proposal would remove some restrictions on the movement of poultry carcasses, parts, or products (except eggs and egg products) from Mexico and would encourage a positive trading environment between the United States and Mexico by stimulating economic activity and providing export opportunities to Mexican poultry industries.

Under these circumstances, the Administrator of the Animal and Plant Health Inspection Service has determined that this action would not have a significant economic impact on a substantial number of small entities.

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging this rule.

Paperwork Reduction Act

In accordance with section 3507(d) of the Paperwork Reduction Act of 1995 (44 U.S.C. 3501 et seq.), the information collection or recordkeeping requirements included in this proposed rule have been submitted for approval to the Office of Management and Budget (OMB). Please send written comments to the Office of Information and Regulatory Affairs, OMB, Attention: Desk Officer for APHIS, Washington, DC 20503. Please state that your comments refer to Docket No. 98-094-1. Please send a copy of your comments to: (1) Docket No. 98-094-1, Regulatory Analysis and Development, PPD, APHIS, suite 3C03, 4700 River Road Unit 118, Riverdale, MD 20737-1238, and (2) Clearance Officer, OCIO, USDA, room 404-W, 14th Street and Independence Avenue, SW., Washington, DC 20250. A comment to OMB is best assured of having its full effect if OMB receives it within 30 days of publication of this proposed rule.

This proposed rule would amend the regulations to allow poultry carcasses, parts, and products (except eggs and egg products) that are not eligible for entry into the United States to move through the United States via land ports from Mexican States that Mexico considers to be free of exotic Newcastle disease (END), under certain conditions, for export to another country.

Implementing this proposed rule would necessitate the use of several paperwork collection activities, including the completion of an import permit application, the placement of serially numbered seals on product containers, and the forwarding of a written pre-arrival notification to APHIS port personnel.

We are soliciting comments from the public (as well as affected agencies) concerning our proposed information collection and recordkeeping requirements. These comments will help us:

(1) Evaluate whether the proposed information collection is necessary for the proper performance of our agency's functions, including whether the information will have practical utility;

(2) Evaluate the accuracy of our estimate of the burden of the proposed information collection, including the validity of the methodology and assumptions used;

(3) Enhance the quality, utility, and clarity of the information to be collected; and

(4) Minimize the burden of the information collection on those who are to respond (such as through the use of appropriate automated, electronic, mechanical, or other technological collection techniques or other forms of information technology; e.g., permitting electronic submission of responses).

Estimate of burden: Public reporting burden for this collection of information is estimated to average 43 minutes per response.

Respondents: Mexican exporters and full-time, salaried veterinarians employed by Mexico's Federal animal health protection service.

Estimated annual number of respondents: 15.

Estimated annual number of responses per respondent: 37.

Estimated annual number of responses: 555.

Estimated total annual burden on respondents: 398 hours.

Copies of this information collection can be obtained from: Clearance Officer, OCIO, USDA, room 404-W, 14th Street and Independence Avenue, SW., Washington, DC 20250.

List of Subjects in 9 CFR Part 94

Animal diseases, Imports, Livestock, Meat and meat products, Milk, Poultry and poultry products, Reporting and recordkeeping requirements.

Accordingly, we propose to amend 9 CFR part 94 as follows:

PART 94—RINDERPEST, FOOT-AND-MOUTH DISEASE, FOWL PEST (FOWL PLAGUE), VELOGENIC VISCEROTROPIC NEWCASTLE DISEASE, AFRICAN SWINE FEVER, HOG CHOLERA, AND BOVINE SPONGIFORM ENCEPHALOPATHY: PROHIBITED AND RESTRICTED IMPORTATIONS

1. The authority citation for part 94 would continue to read as follows:

Authority: 7 U.S.C. 147a, 150ee, 161, 162, and 450; 19 U.S.C. 1306; 21 U.S.C. 111, 114a, 134a, 134b, 134c, 134f, 136, and 136a; 31 U.S.C. 9701; 42 U.S.C. 4331 and 4332; 7 CFR 2.22, 2.80, and 371.2(d).

2. In § 94.15, paragraphs (c) and (d) would be redesignated as paragraphs (d) and (e). respectively, and a new paragraph (c) would be added to read as follows:

§ 94.15 Animal products and materials; movement and handling.

* * * * *

(c) Poultry carcasses, parts, or products (except eggs and egg products) from Baja California, Baja California Sur, Campeche, Chihuahua, Coahuila, Durango, Nuevo Leon, Quintana Roo, Sinaloa, Sonora, Tamaulipas, or Yucatan, Mexico, that are not eligible for entry into the United States in accordance with the regulations in this part may transit the United States via land ports for immediate export if the following conditions are met:

(1) The person desiring to move the poultry carcasses, parts, or products through the United States obtains a United States Veterinary Permit for Importation and Transportation of Controlled Materials and Organisms and Vectors (VS Form 16-6). An application for the permit may be obtained from the Animal and Plant Health Inspection Service, Veterinary Services, National Center for Import-Export, 4700 River Road Unit 38, Riverdale, Maryland 20737-1231.

(2) The poultry carcasses, parts, or products are packaged at a Tipo Inspección Federal plant in Baja California, Baja California Sur, Campeche, Chihuahua, Coahuila, Durango, Nuevo Leon, Quintana Roo, Sinaloa, Sonora, Tamaulipas, or Yucatan, Mexico, in leakproof containers with serially numbered seals of the Government of Mexico, and the containers remain sealed during the entire time they are in transit across Mexico and the United States.

(3) The person moving the poultry carcasses, parts, or products through the United States notifies, in writing, the Plant Protection and Quarantine Officer at the U.S. port of arrival prior to such transiting. The notification must include the following information regarding the poultry to transit the United States:

(i) Permit number;

(ii) Times and dates of arrival in the United States;

(iii) Time schedule and route to be followed through the United States; and

(iv) Serial numbers of the seals on the containers.

(4) The poultry carcasses, parts, or products transit the United States under Customs bond and are exported from the United States within the time limit specified on the permit. Any poultry carcasses, parts, or products that have not been exported within the time limit specified on the permit or that have not transited in accordance with the permit or applicable requirements of this part will be destroyed or otherwise disposed of as the Administrator may direct pursuant to section 2 of the Act of February 2, 1903, as amended (21 U.S.C. 111).

* * * * *

(Approved by the Office of Management and Budget under control number 0579-0145)

Done in Washington, DC, this 2nd day of February 2000.
Bobby R. Acord,
Acting Administrator, Animal and Plant Health Inspection Service.

[FR Doc. 00-2778 Filed 2-7-00; 8:45 am]

BILLING CODE 3410-34-U